DEPARTMENT OF TRANSPORTATION

Pipeline and Hazardous Materials Safety Administration

[Docket No. PHMSA-RSPA-2005-20323; Docket No. PHMSA-2008-0141]

Pipeline Safety: Request for Special Permit; Northern Natural Gas Company

AGENCY: Pipeline and Hazardous Materials Safety Administration (PHMSA); DOT.

ACTION: Notice.

SUMMARY: PHMSA is publishing this notice to solicit public comments on two (2) requests received from the Northern Natural Gas Company to renew previously issued special permits. These special permit renewal requests seek relief from compliance from certain requirements in the Federal pipeline safety regulations. At the conclusion of the 30-day comment period, PHMSA will review the comments received from this notice as part of its evaluation to grant or deny the special permit renewal requests.

DATES: Submit any comments regarding these special permit renewal requests by January 13, 2020.

ADDRESSES: Comments should reference the docket number for the specific special permit renewal request and may be submitted in the following ways:

• E-Gov website: http://www.Regulations.gov. This site allows the public to enter comments on any Federal Register notice issued by any agency.

• Fax: 1-202-493-2251.

• Mail: Docket Management System: U.S. Department of Transportation, Docket Operations, M-30, West Building Ground Floor, Room W12-140, 1200 New Jersey Avenue SE, Washington, DC 20590.

• Hand Delivery: Docket Management System: U.S. Department of Transportation, Docket Operations, M-30, West Building Ground Floor, Room W12-140, 1200 New Jersey Avenue SE, Washington, DC 20590, between 9:00 a.m. and 5:00 p.m., Monday through Friday, except Federal holidays.

Instructions: You should identify the docket number for the special permit renewal request you are commenting on at the beginning of your comments. If you submit your comments by mail, please submit two (2) copies. To receive confirmation that PHMSA has received your comments, please include a self-addressed stamped postcard. Internet users may submit comments at http://www.Regulations.gov.

Note: There is a privacy statement published on http://www.Regulations.gov. Comments, including any personal information provided, are posted without changes or edits to http://www.Regulations.gov.

Confidential Business Information: Confidential Business Information (CBI) is commercial or financial information that is both customarily and actually treated as private by its owner. Under the Freedom of Information Act (FOIA) (5 U.S.C. 552), CBI is exempt from public disclosure. If your comments responsive to this notice contain commercial or financial information that is customarily treated as private, that you actually treat as private, and that is relevant or responsive to this notice, it is important that you clearly designate the submitted comments as CBI. Pursuant to 49 Code of Federal Regulations (CFR) § 190.343, you may ask PHMSA to give confidential treatment to information you give to the agency by taking the following steps: (1) Mark each page of the original document submission containing CBI as “Confidential”; (2) send PHMSA, along with the original document, a second copy of the original document with the CBI deleted; and (3) explain why the information you are submitting is CBI. Unless you are notified otherwise, PHMSA will treat such marked submissions as confidential under the FOIA, and they will not be placed in the public docket of this notice. Submissions containing CBI should be sent to Kay McIver, DOT, PHMSA PHP-80, 1200 New Jersey Avenue SE, Washington, DC 20590-0001. Any commentary PHMSA receives that is not specifically designated as CBI will be placed in the public docket for this matter.

FOR FURTHER INFORMATION CONTACT:

General: Ms. Kay McIver by telephone at 202-366-0113, or by email at kay.mciver@dot.gov.

Technical: Mr. Steve Nanney by telephone at 713-272-2855, or by email at steve.nanney@dot.gov.

SUPPLEMENTARY INFORMATION: PHMSA has received the following two (2) special permit renewal requests:

Docket No. | Requester | Regulation(s) | Nature of special permit
PHMSA-RSPA-2005-20323 | Northern Natural Gas Company (Northern Natural) | 49 CFR 192.625(b)(1) | To reauthorize Northern Natural to continue its operation of special permit segment 2 as defined in the original special permit issued on April 10, 2010, and renewed on April 7, 2015, for the non-odorization of a pipeline lateral. Special permit segment 1 is not being requested for permit renewal as this pipeline was abandoned and relocated.
|  |  | The special permit renewal request seeks to continue waiving compliance from 49 CFR 192.625(b)(1) for the exclusion from installing and operating odorization equipment on special permit segment 2 defined as 0.369 miles of 4½-inch diameter La Crescent Branch Line (MNB 73701) located in Houston County, Minnesota. The special permit conditions that were imposed would continue to remain in effect. This special permit segment has a maximum allowable operating pressure (MAOP) of 800 pounds per square inch gauge (psig).
PHMSA-2008-0141 | Northern Natural Gas Company (Northern Natural) | 49 CFR 192.625(b)(1) | To reauthorize Northern Natural to continue its operation as defined in the original special permit issued on April 10, 2010, and renewed on April 7, 2015, for the non-odorization of a pipeline lateral.
|  |  | The special permit renewal request seeks to waive compliance from 49 CFR 192.625(b)(1) for the exclusion from installing and operating odorization equipment on a 2.031-mile segment of the 14-inch diameter Sioux Falls Pipeline located in Lincoln County, South Dakota.
|  |  | The special permit conditions that were imposed would continue to remain in effect. This special permit segment has a MAOP of 446 psig.

The Northern Natural Gas Company requests for special permit renewals and the existing special permits are available for review and public comment in the respective dockets. We invite interested persons to review and submit comments on the special permit renewal requests in the dockets. Please include any comments on potential safety and environmental impacts that may result if the renewals of the special permits are granted.

Before issuing a decision on the special permit renewal requests, PHMSA will evaluate all comments received on or before the comment closing date. Comments received after the closing date will be evaluated, if it is possible to do so without incurring additional expense or delay. PHMSA will consider each relevant comment we receive in making our decision to grant or deny these requests.

Issued in Washington, DC, on December 10, 2019, under authority delegated in 49 CFR 1.97.
Alan K. Mayberry,
Associate Administrator for Pipeline Safety.

[FR Doc. 2019-26896 Filed 12-12-19; 8:45 am]

BILLING CODE 4910-60-P